DEPARTMENT OF HOMELAND SECURITY

Federal Emergency Management Agency

44 CFR Part 65

[Docket ID FEMA-2010-0003; Internal Agency Docket No. FEMA-B-1121]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Madison | Unincorporated areas of Madison County, (09-04-6850P) | February 12, 2010; February 19, 2010; Madison County Record | The Honorable Mike Gillespie, Chairman, Madison County Commission, Courthouse 700, 100 Northside Square, Huntsville, AL 35801 | June 21, 2010 | 010151
Arkansas: Crawford | City of Alma, (09-06-2913P) | February 10, 2010; February 17, 2010; Alma Journal | The Honorable John R. Ballentine, Mayor, City of Alma, 804 Fayetteville Avenue, Alma, AR 72921 | January 28, 2010 | 050236
Colorado:
Arapahoe | City of Englewood, (10-08-0001P) | February 25, 2010; March 5, 2010; The Denver Post | The Honorable Jim Woodward, Mayor, City of Englewood, 1000 Englewood Parkway, Englewood, CO 80110 | February 18, 2010 | 085074
Arapahoe | City of Sheridan, (10-08-0001P) | February 25, 2010; March 5, 2010; The Denver Post | The Honorable Dallas Hall, Mayor, City of Sheridan, 4101 South Federal Boulevard, Sheridan, CO 80110 | February 18, 2010 | 080018
Eagle | Unincorporated areas of Eagle County, (09-08-0907P) | January 28, 2010; February 4, 2010; The Eagle Valley Enterprise | The Honorable Peter Runyon, Chairman, Eagle County Board of Commissioners, P.O. Box 850, Eagle, CO 81631 | June 4, 2010 | 080051
Larimer | City of Fort Collins, (09-08-0465P) | February 8, 2010; February 15, 2010; Fort Collins Coloradoan | The Honorable Doug Hutchinson, Mayor, City of Fort Collins, P.O. Box 580, Fort Collins, CO 80522 | February 24, 2010 | 080102
Larimer | Unincorporated areas of Larimer County, (09-08-0465P) | February 8, 2010; February 15, 2010; Fort Collins Coloradoan | The Honorable Steve Johnson, Chair Pro Tem, Larimer County Board of Commissioners, P.O. Box 1190, Fort Collins, CO 80522 | February 24, 2010 | 080101
Florida:
Collier | City of Marco Island, (09-04-7821P) | February 19, 2010; February 26, 2010; Naples Daily News | Mr. Stephen T. Thompson, City Manager, City of Marco Island, 50 Bald Eagle Drive, Marco Island, FL 34145 | February 9, 2010 | 120426
Lee | City of Bonita Springs, (09-04-3113P) | February 10, 2010; February 17, 2010; Fort Myers News-Press | The Honorable Ben L. Nelson, Jr., Mayor, City of Bonita Springs, 9101 Bonita Beach Road, Bonita Springs, FL 34135 | June 17, 2010 | 120680
Orange | Unincorporated areas of Orange County, (09-04-6911P) | January 28, 2010; February 4, 2010; Orlando Weekly | The Honorable Richard T. Crotty, Mayor, Orange County, 201 South Rosalind Avenue, 5th Floor, Orlando, FL 32801 | January 19, 2010 | 120179
Polk | Unincorporated areas of Polk County, (09-04-5686P) | February 10, 2010; February 17, 2010; The Polk County Democrat | The Honorable Bob English, Chairman, Polk County Board of Commissioners, P.O. Box 9005, Drawer BC01, Bartow, FL 33831 | June 17, 2010 | 120261
Georgia: Douglas | Unincorporated areas of Douglas County, (09-04-6891P) | February 5, 2010; February 12, 2010; Douglas County Sentinel | The Honorable Tom Worthan, Chairman, Douglas County Board of Commissioners, 8700 Hospital Drive, Douglasville, GA 30134 | June 14, 2010 | 130306
Kentucky: Lexington-Fayette Urban County Government | Lexington-Fayette Urban County Government, (09-04-2657P) | February 12, 2010; February 19, 2010; Lexington Herald-Leader | The Honorable Jim Newberry, Mayor, Lexington-Fayette Urban County, Government, 200 East Main Street, Lexington, KY 40507 | June 21, 2010 | 210067
Missouri:
Cass | City of Peculiar, (09-07-1059P) | February 11, 2010; February 18, 2010; The Journal | The Honorable Ernie Jungmeyer, Mayor, City of Peculiar, 908 Kendall Road, Peculiar, MO 64078 | June 18, 2010 | 290878
Cass | Unincorporated areas of Cass County, (09-07-1059P) | February 11, 2010; February 18, 2010; The Journal | The Honorable Gary Mallory, Presiding Commissioner, Cass County Commission, 102 East Wall Street, Harrisonville, MO 64701 | June 18, 2010 | 290783
New Mexico: Dona Ana | City of Las Cruces, (09-06-0638P) | February 5, 2010; February 12, 2010; Las Cruces Sun-News | The Honorable Ken Miyagishima, Mayor, City of Las Cruces, P.O. Box 20000, Las Cruces, NM 88004 | June 14, 2010 | 355332
North Carolina:
Cumberland | City of Fayetteville, (09-04-2351P) | February 5, 2010; February 12, 2010; Fayetteville Observer | The Honorable Anthony G. Chavonne, Mayor, City of Fayetteville, 433 Hay Street, Fayetteville, NC 28301 | June 14, 2010 | 370077
Durham | City of Durham, (09-04-4161P) | February 5, 2010; February 12, 2010; The Herald-Sun | The Honorable William V. Bell, Mayor, City of Durham, 101 City Hall Plaza, Durham, NC 27701 | January 29, 2010 | 370086
Wake | Town of Cary, (09-04-4769P) | February 24, 2010; March 3, 2010; The Cary News and The News & Observer | The Honorable Harold Weinbrecht, Mayor, Town of Cary, P.O. Box 8005, Cary, NC 27512 | July 1, 2010 | 370238
Wake | Town of Morrisville, (09-04-4769P) | February 24, 2010; March 3, 2010; The News & Observer | The Honorable Jan Faulkner, Mayor, Town of Morrisville, 100 Town Hall Drive, Morrisville, NC 27560 | July 1, 2010 | 370242
Oregon: Linn | City of Millersburg, (09-10-0354P) | February 26, 2010; March 5, 2010; Democrat-Herald | The Honorable Clayton Wood, Mayor, City of Millersburg, 4222 Northeast Old Salem Road, Albany, OR 97321 | July 2, 2010 | 410284
Pennsylvania: Chester | Township of West Whiteland, (09-03-1797P) | January 29, 2010; February 5, 2010; Daily Local News | The Honorable Diane Snyder, Chairman, West Whiteland Township Board of Supervisors, 101 Commerce Drive, Exton, PA 19341 | January 21, 2010 | 420295
Tennessee:
Hamilton | City of Chattanooga, (09-04-3516P) | February 12, 2010; February 19, 2010; Chattanooga Times Free Press | The Honorable Ron Littlefield, Mayor, City of Chattanooga, 101 East 11th Street, Chattanooga, TN 37402 | January 29, 2010 | 470072
Maury | City of Spring Hill, (09-04-2487P) | January 29, 2010, February 5, 2010, The Daily Herald | The Honorable Michael Dinwiddie, Mayor, City of Spring Hill, P.O. Box 789, Spring Hill, TN 37174 | February 19, 2010 | 470278
Texas:
Denton | City of Fort Worth, (09-06-2866P) | December 14, 2009; December 21, 2009; Fort Worth Star-Telegram | The Honorable Michael J. Moncrief, Mayor, City of Fort Worth, 1000 Throckmorton Street, Fort Worth, TX 76102 | April 20, 2010 | 480596
Tarrant | City of North Richland Hills, (09-06-0903P) | December 14, 2009; December 21, 2009; Star-Telegram | The Honorable T. Oscar Trevino, Jr., P.E., Mayor, City of North Richland Hills, 7301 Northeast Loop 820, North Richland Hills, TX 76180 | December 30, 2009 | 480607
Utah: Weber | City of Ogden, (09-08-0583P) | February 12, 2010; February 19, 2010; Standard-Examiner | The Honorable Matthew R. Godfrey, Mayor, City of Ogden, 2549 Washington Boulevard, Suite 910, Ogden, UT 84401 | June 21, 2010 | 490189
Washington:
King | City of Snoqualmie, (08-10-0665P) | February 5, 2010; February 12, 2010; The Seattle Times | The Honorable Matt Larson, Mayor, City of Snoqualmie, P.O. Box 987, Snoqualmie, WA 98065 | February 26, 2010 | 530090
King | Unincorporated areas of King County, (08-10-0665P) | February 5, 2010; February 12, 2010; The Seattle Times | The Honorable Dow Constantine, Chairman, King County Board of Commissioners, 516 3rd Avenue, Room 1200, Seattle, WA 98104 | February 26, 2010 | 530071
Wisconsin: Waukesha | Village of Elm Grove, (09-05-5085P) | January 14, 2010; January 21, 2010; Waukesha Freeman | The Honorable Neil Palmer, President, Village of Elm Grove, 13600 Juneau Boulevard, Elm Grove, WI 53122 | February 5, 2010 | 550578
Wyoming: Natrona | City of Casper, (08-08-0742P) | February 11, 2010; February 18, 2010; Casper Star-Tribune | The Honorable Kenyne Schlager, Mayor, City of Casper, 200 North David Street, Casper, WY 82601 | June 18, 2010 | 560037

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12485 Filed 5-24-10; 8:45 am]

BILLING CODE 9110-12-P